DEPARTMENT OF TRANSPORTATION

Federal Transit Administration

Preparation of Environmental Impact Statement for Transportation Improvements Within the Southeast Corridor Between Nashville and Murfreesboro, TN

AGENCY: Federal Transit Administration (FTA), U.S. Department of Transportation (DOT).

ACTION: Notice of intent to prepare an environmental impact statement.

SUMMARY: The Federal Transit Administration (FTA) is issuing this notice to advise interested agencies and the public that, in accordance with the National Environmental Policy Act, FTA and the Nashville Area Metropolitan Planning Organization (MPO) will prepare an Environmental Impact Statement (EIS) for proposed transportation improvements in the Southeast Corridor between downtown Nashville in Davidson County, Tennessee and Murfreesboro in Rutherford County, Tennessee.

DATES: Comment Due Date: Written comments on the scope of the EIS, including the alternatives and impacts to be considered, should be sent to the address listed under ADDRESSES below by August 14, 2004.

Interagency Scoping Meeting: An interagency scoping meeting will be held on Wednesday, July 14, 2004, from 1:30 to 3:30 p.m. at the Nashville Downtown Library, 615 Church Street, Conference Room 1, Nashville, Tennessee 37219. Representatives of agencies likely to have an interest in, or jurisdiction over any aspect of the project will be individually contacted and invited to the meeting.

Public Scoping Meetings: Public scoping meetings will be held on: Monday, July 12, 2004, from 4 p.m. to 7 p.m., at Smyrna Town Centre, 100 Sam Ridley Parkway, Smyrna, Tennessee 37167; Tuesday, July 13, 2004, from 4 p.m. to 7 p.m. at Rutherford County Courthouse, Courthouse Square, Murfreesboro, Tennessee 37130; and Wednesday, July 14, 2004 from 11 a.m. to 1 p.m. at the Nashville Downtown Library, 615 Church Street, Conference Room 1, Nashville, Tennessee 37219.

All scoping meetings will be held in wheelchair-accessible locations. If additional assistance, such as signing for the hearing impaired, is needed, please notify Jim McAteer of the Nashville Area MPO as indicated below under ADDRESSES.

ADDRESSES: Written comments on the scope of the EIS, including the alternatives to be analyzed and the impacts to be considered, should be sent by August 14, 2004 to: Jim McAteer, Transit Planner, Nashville Area Metropolitan Planning Organization, 730 2nd Ave South, Nashville, TN 37201, Phone (615) 862-7204, Fax (615) 862-7209, e-mail mcateer@nashvillempo.org. Also contact Mr. McAteer to be placed on the project mailing list or to request a copy of the scoping information packet which is also on the Nashville MPO website at www.nashvillempo.org. The locations of the scoping meetings are given above under DATES.

FOR FURTHER INFORMATION CONTACT: Mr. Doug Frate, Federal Transit Administration, 61 Forsyth Street, SW., Suite 17T50, Atlanta, GA 30303. Phone: (404) 562-3514.

SUPPLEMENTARY INFORMATION: FTA, the Federal lead agency, in cooperation with the Nashville Area MPO, the local lead agency, is preparing an EIS for proposed transportation improvements in the corridor between downtown Nashville in Davidson County, Tennessee and Murfreesboro in Rutherford County, Tennessee, known as the Southeast Corridor. Issues and alternatives will be identified through a scoping process in accordance with the regulations implementing the National Environmental Policy Act (NEPA) of 1969, as amended.

I. Scoping

The Nashville Area MPO and FTA invite interested individuals, organizations, and Federal, State, and local agencies to participate in scoping the EIS. Scoping participants are invited to comment on the alternatives to be addressed; the modes and technologies to be evaluated; the alignments and station locations to be considered; the environmental, social, and economic impacts to be analyzed; and the evaluation approach to be used to select a locally preferred alternative. Interested individuals, organizations, or agencies may propose the consideration of an additional, specific alternative or the study of a specific environmental effect associated with an alternative. Scoping comments should focus on the issues and alternatives for analysis, and not on preference for particular alternatives. (Individual preference for particular alternatives should be communicated during the comment period for the Draft EIS.) Comments may be made at the scoping meetings or in writing no later than August 14, 2004, as described in DATES and ADDRESSES above. After the scoping process, the MPO will conduct a planning Alternatives Analysis to decide what transportation improvements in the Southeast Corridor should be incorporated into its regional transportation plan. The EIS will incorporate the planning Alternatives Analysis by reference and evaluate the surviving alternatives in detail.

II. Description of Study Area

The study area, known as the Southeast Corridor, links the cities of Nashville in Davidson County and LaVergne, Smyrna and Murfreesboro in Rutherford County, all of which are within the MPO's area of responsibility for transportation planning. Nashville is the second largest city in Tennessee with a population of roughly 570,000. The central business district houses the Tennessee State Offices, music attractions, and the Tennessee Titans football team which brings visitors from across the state. Nashville draws approximately 132,000 commuters from surrounding counties, about 25,000 of whom come from Rutherford County. Murfreesboro is the southernmost terminus of the study corridor and lies about 30 miles southeast of Nashville. It has a population of roughly 75,000 and is home to Middle Tennessee State University (MTSU), which has an enrollment of about 21,000, of whom 3,500 live on the campus. Smyrna has a population of approximately 25,600 and LaVergne has an approximate population of 18,700. The estimated population along the corridor is 260,050.

The two primary north-south thoroughfares within the corridor are Murfreesboro Road, also known as U.S. 41/70S, and Interstate 24 (I-24). This corridor experiences significant levels of traffic congestion within the 30-mile segment of I-24 between Nashville and Murfreesboro, handling between 91,000 and 133,000 average daily annual trips. Murfreesboro Road has between 20,600 and 37,400 average annual daily trips. Some of the potential trip attractors/generators along the corridor include Nashville International Airport, and MTSU and major employers such as Dell Computer and regional shopping malls, commercial services, office parks, hospitals and the downtown core of Nashville. LaVergne and Smyrna form a major employment area known as “Interchange City,” which is home to a Nissan manufacturing plant, Bridgestone and other major industries.

Few options exist in the corridor to provide alternatives to driving in heavily congested conditions. Improvements are needed to address traffic volumes that increase annually and the corresponding traffic congestion that is projected to occur. The planning Alternatives Analysis will examine alignments, technologies, station locations, cost, funding, ridership, economic development, land use, engineering feasibility, and environmental concerns. During this Alternatives Analysis process, the MPO will also evaluate options for transportation improvements in this corridor that do not involve significant capital investment.

III. Alternatives

The alternatives initially proposed for consideration in the Southeast Corridor include:

1. No Action Alternative: Based on projects included in the local transportation improvement plan (TIP) and financially-constrained long-range transportation plan, with no new change to transportation services or facilities in the area beyond already committed projects.

2. Transportation System Management Alternative: A low-cost alternative will be developed to include minor improvements to intersections, traffic signals, demand management and system management programs, bus services and facilities and other modifications to the transportation system that can be made without major investments in infrastructure or equipment.

3. Build Alternatives: Three alternatives, combining various types of major investments to meet the travel needs of the corridor, will be developed. These “build” alternatives most likely will include the development of busway or bus rapid transit, light rail transit, and conventional commuter rail technology along various existing rights-of-way in the corridor.

Based on public and agency input received during scoping, variations of the above alternatives and other transportation-related improvement options, both transit and non-transit, will be considered for the Southeast Corridor.

IV. Potential Impacts for Analysis

The FTA and MPO will consider all social, economic, and environmental impacts associated with the alternatives under consideration. Potential environmental issues to be addressed include: land use, historic and archaeological resources, traffic and parking, noise and vibration, environmental justice, floodplain encroachments, coordination with other transportation and economic development projects, and construction impacts. Other issues to be addressed include: natural areas, ecosystems, rare and endangered species, water resources, air quality, surface water and groundwater quality, contaminated sites, displacements and relocations, and parklands. The potential impacts will be evaluated for both the construction period and the long-term operations period of each alternative considered. In addition, the cumulative effects of the alternatives on major resources identified in the study area will be analyzed. Measures to avoid or mitigate any significant adverse impacts will be developed.

V. FTA Procedures

In accordance with FTA policy, all Federal laws, regulations, and executive orders affecting project development, including but not limited to the regulations of the Council on Environmental Quality and FTA implementing NEPA (40 CFR parts 1500-1508, and 23 CFR part 771), the Clean Air Act, section 404 of the Clean Water Act, Executive Order 12898 regarding environmental justice, the National Historic Preservation Act, the Endangered Species Act, and section 4(f) of the DOT Act, will be addressed to the maximum extent practicable during the NEPA process. In addition, the MPO may seek section 5309 New Starts funding for the project and will therefore be subject to the FTA New Starts regulation (49 CFR part 611). This New Starts regulation requires the submission of certain specified information to FTA to support a request to initiate preliminary engineering, which is normally done in conjunction with the NEPA process.

After the scoping process, the MPO will conduct a planning Alternatives Analysis to decide what transportation improvements in the Southeast Corridor should be incorporated into its regional transportation plan. The planning Alternatives Analysis will examine alignments, technologies, station locations, cost, funding, ridership, economic development, land use, engineering feasibility, and environmental concerns. The Draft EIS will incorporate the planning Alternatives Analysis by reference and evaluate the surviving alternatives in detail. After its publication, the Draft EIS will be available for public and agency review and comment, and public hearings will be held on the Draft EIS. The Final EIS will consider comments received during the Draft EIS public review and will identify the preferred alternative. Additional opportunities for public involvement will be provided throughout all phases of project development.

Issued on: June 28, 2004.
Hiram J. Walker,
Regional Administrator.

[FR Doc. 04-15054 Filed 7-1-04; 8:45 am]

BILLING CODE 4910-57-P